OFFICE OF MANAGEMENT AND BUDGET

Proposed Designation of Databases for Treasury's Working System Under the Do Not Pay Initiative

AGENCY: Office of Management and Budget.

ACTION: Notice of proposed designation.

SUMMARY: The Payment Integrity Information Act of 2019 (PIIA) authorizes the Office of Management and Budget (OMB) to designate databases for inclusion in Treasury's Working System under the Do Not Pay (DNP) Initiative. PIIA further requires OMB to provide public notice and opportunity for comment prior to designating additional databases. As a result, OMB is publishing this Notice of Proposed Designation to designate the United States Postal Service (USPS) Delivery Sequence File, the Census Bureau Federal Audit Clearinghouse, the Do Not Pay (DNP) Agency Adjudication Data, Fiscal Service's Payments, Claims, and Enhanced Reconciliation (PACER) database, Bureau of Prisons (BOP) Incarceration Data, Digital Accountability and Transparency Act (DATA Act) data, Census Bureau's American Communities Survey (ACS) Annual State and County Data Profiles, Veterans Affairs' (VA) Beneficiary Identification Records Locator Service (BIRLS), Department of Agriculture's National Disqualified List (NDL), Center for Medicare and Medicaid Services (CMS) National Plan and Provider Enumeration System (NPPES), Internal Revenue Service's (IRS) Statistics of Income (SOI) Annual Individual Income Tax ZIP Code Data, and the U.S. Securities and Exchange Commission's (SEC) Electronic Data Gathering, Analysis, and Retrieval (EDGAR) System. OMB's detailed analysis of the aforementioned databases has been posted on Regulations.gov. This notice has a 30-day comment period.

DATES: Please submit comments on or before February 22, 2021. At the conclusion of the 30-day comment period, if OMB decides to finalize the designation, OMB will publish an additional notice in the Federal Register to officially designate the databases.

Please note that all public comments received are subject to the Freedom of Information Act and will be posted in their entirety, including any personal and/or business confidential information provided. Do not include any information you would not like to be made publicly available.

ADDRESSES: Comments may be sent by mail. The Office of Management and Budget, Attn: OFFM, 725 17th Street NW, Washington, DC 20503.

FOR FURTHER INFORMATION CONTACT: Regina Kearney at (202) 395-3993.

SUPPLEMENTARY INFORMATION: PIIA, Public Law 116-117, 134 Stat. 113 (Mar. 2, 2020) (codified at 31 U.S.C. 3351-3358), authorizes the OMB to designate databases for inclusion in Treasury's Working System under the DNP Initiative. 31 U.S.C. 3354(b)(1)(B). PIIA further requires OMB to provide public notice and opportunity for comment prior to designating additional databases. Id. at § 3354(b)(2)(B). For additional analysis and information pertaining to aforementioned databases, please refer to Regulations.gov.

We invite public comments on the proposed designation of each of the twelve databases identified in this notice.

Russell T. Vought,
Director.

[FR Doc. 2021-01327 Filed 1-21-21; 8:45 am]

BILLING CODE 3110-01-P